DEPARTMENT OF TRANSPORTATION

National Highway Traffic Safety Administration

[Docket No. NHTSA-2009-0084; Notice 2]

American Honda Motor Co., Inc., Grant of Petition for Decision of Inconsequential Noncompliance

AGENCY: National Highway Traffic Safety Administration, DOT.

ACTION: Notice of petition grant.

SUMMARY: American Honda Motor Co., Inc. (Honda), has determined that certain 2008 and 2009 model year Honda Civic Si model passenger cars when equipped with dealer accessory 18-inch diameter wheels do not fully comply with paragraph S4.2(a) of Federal Motor Vehicle Safety Standard (FMVSS) No. 138, Tire Pressure Monitoring Systems. Honda filed an appropriate report dated December 3, 2008, pursuant to 49 CFR part 573 Defect and Noncompliance Responsibility and Reports.

Pursuant to 49 U.S.C. 30118(d) and 30120(h) and the rule implementing those provisions at 49 CFR Part 556, Honda has petitioned for an exemption from the notification and remedy requirements of 49 U.S.C. Chapter 301 on the basis that this noncompliance is inconsequential to motor vehicle safety. Notice of receipt of the petition was published, with a 30-day public comment period, on May 12, 2009 in the Federal Register (74 FR 22202). No comments were received. To view the petition, and supporting documents log onto the Federal Docket Management System (FDMS) Web site at: http://www.regulations.gov/. Then follow the online search instructions to locate docket number “NHTSA-2009-0084.”

For further information on this decision contact Mr. John Finneran, Office of Vehicle Safety Compliance, the National Highway Traffic Safety Administration (NHTSA), telephone (202)366-0645, facsimile (202) 366-5930.

Vehicles involved: The exact number of vehicles involved is not known. However, a total of approximately 952 wheels, or 238 complete wheel sets, were sold to Honda dealerships by Honda between July, 2006 and September, 2008. These wheel sets were sold with a replacement tire pressure placard in accordance with FMVSS No. 110, indicating a tire inflation pressure of 250 kPa (36 PSI) for 215/40RZ18 tires having a load capacity rating of 85Y.

Noncompliance: Honda explains that the noncompliance occurred because the recommended electronic method of updating the TPMS inflation pressure settings to accommodate proper installation of the subject optional wheel sets incorrectly informed technicians that the adjustments had been completed successfully. The result is that the TPMS inflation pressure warning threshold remains at the standard setting for the original equipment 17-inch wheels of not less than 175 kPa (25 PSI) for the standard recommended tire pressure of 230 kPa (33 PSI). The minimum allowable TPMS threshold for the 18-inch accessory wheels should be 190 kPa (27 PSI), based on the recommended pressure of 250 kPa (36 PSI) as indicated on the replacement tire pressure placard. As a result, the low tire pressure warning telltale required by S4.2(a) will not illuminate at the 27 PSI minimum allowable TPMS threshold necessitated by installation of the dealer accessory wheels and tires.

Summary of Honda's Analysis and Arguments

Honda stated that it believes the noncompliance is inconsequential to motor vehicle safety because even at the lower TPMS threshold, adequate load capacity remains for the tires on the subject vehicles. Along with this statement Honda explained that the load capacity for each of the 215/40RZ18 85Y tires is 500 kilograms (1,100 lbs) at 230 kPa (33 PSI), calculated using the Japan Automotive Tyre Manufacturer's Association (JATMA) method, as recognized by NHTSA in FMVSS No. 110. The maximum allowable load according to the Gross Axle Weight Ratings (GAWR) for a 2008 or 2009 Civic Si is 477 kilograms (1,050 lbs) for each front tire and 425 kilograms (938 lbs) for each rear tire, well within the load capacity specified by JATMA.

Honda believes that the described noncompliance of its vehicles is inconsequential to motor vehicle safety, and that its petition, to exempt from providing recall notification of noncompliance as required by 49 U.S.C. 30118 and remedying the recall noncompliance as required by 49 U.S.C. 30120 should be granted.

NHTSA's Decision

NHTSA's Analysis: For the agency's analysis of this petition the requirements of three associated Federal motor vehicle safety standards (FMVSS) were evaluated. First, as relates to FMVSS No. 110, we agree with Honda's statement that the 18-inch diameter tires have adequate load carrying capacity for the gross axle weight ratings assigned to any of the subject vehicles equipped with the dealer-installed tires. Two corresponding requirements exist in FMVSS No. 110 for passenger cars, S4.2.1.1, which states “[t]he vehicle maximum load on the tire shall not be greater than the applicable maximum load rating as marked on the sidewall of the tire” and S4.3.4, requires that “No inflation pressure other than the maximum permissible inflation pressure may be shown on the placard and, if any, tire inflation pressure label unless—(c) The tire load rating specified in a submission by an individual manufacturer, pursuant to S4.1.1(a) of § 571.139 or contained in one of the publications described in S4.1.1(b) of § 571.139, for the tire size at that inflation pressure is not less than the vehicle maximum load and the vehicle normal load on the tire for those vehicle loading conditions. We asked Honda for data for fully loaded vehicles. Honda provided the maximum weight on the front and rear axles with the vehicles loaded to capacity weight, and we calculated the weight per tire assuming an equal distribution between the tires:

Model | Front axle: kg | Front axle: lb | Front axle/2: kg | Front axle/2: lb | Rear axle: kg | Rear axle: lb | Rear axle/2: kg | Rear axle/2: lb
2-door | 930 | 2050 | 465 | 1025 | 805 | 1774 | 402 | 887
4-door | 950 | 2094 | 475 | 1047 | 830 | 1830 | 415 | 915

The 18-inch tires at the maximum load rating on the sidewall of the tires and at the recommended inflation pressures of 33 psi or 36 psi specified on the FMVSS No. 110 vehicle placards appear to meet the two FMVSS No. 110 requirements identified above.

We then turned our attention to FMVSS No. 138. FMVSS No. 138 does not require the TPMS telltale activation pressure to be set at a level such that the tires at that pressure will have a load rating appropriate for the vehicle when loaded to its capacity weight.¹ The standard requires the TPMS activation pressure to be the value at 25 percent below the manufacturer's recommended cold inflation pressure or 140kPa (from table 1 in FMVSS No. 138), whichever is higher. For the subject 18-inch tires, as discussed in the previous paragraph under the requirements of FMVSS No. 110, Honda could have specified a recommended cold inflation pressure of 33 psi or the 36 psi and either pressure would have been appropriate for the vehicles maximum load on the tires. Twenty-five percent below either of these recommended inflation pressures would have been appropriate under the requirements of FMVSS No. 138.

¹ See Federal Register Notice 70 FR 18138, 18146 (April 8, 2005) describing NHTSA's testing of a variety of Standard Load P-metric tires at 20 psi with 100 percent load, and no tires failed. “This testing led the agency to conclude that warnings of less severe conditions [i.e., in Honda's case 25 psi] will give drivers sufficient time to check and re-inflate their vehicles' tires before the tires experience appreciable damage.”

Finally, as relates to FMVSS No. 139, we examined the low inflation pressure performance test required by that standard. FMVSS No. 139 specifies a low inflation pressure performance test in which the tire is loaded to its maximum tire load capacity and inflated to only 140kPa (20 psi), less than the TPMS telltale activation pressure for the subject vehicles. Although NHTSA did not test a sample of the 18-inch tire to FMVSS No. 139, tire manufacturers are required to certify that the tires meet all applicable requirements of the standard, evidenced by labeling each tire with the letters “DOT.”

NHTSA's Conclusion: Honda is asking the agency to determine that its noncompliance be deemed inconsequential to safety because it believes the 18-inch tires have adequate load capacity at the 36 psi recommended inflation pressure for these tires and at the lower 33 psi recommended inflation pressure for the 17-inch tire being replaced. NHTSA's analysis determined that Honda was correct in its assessment. Furthermore, FMVSS No. 138 does not include a minimum tire load rating margin requirement at the TPMS activation pressure thus a 25 percent below either pressure would be appropriate under the standard's requirements. NHTSA's analysis also noted that the subject tires must be certified to the low inflation pressure performance testing of FMVSS No. 139 which is conducted at an inflation pressure further below the subject tires TPMS activation inflation pressures. Finally, we conducted a search of the agency's Office of Defects Investigation's complaint data base and found no complaints associated directly with the incorrect TPMS activation inflation pressure thresholds for the 2008 and 2009 Honda Civic vehicles.

NHTSA's Decision: In consideration of the foregoing, NHTSA has determined that Honda has adequately demonstrated, under the specific facts and circumstances presented here, that the noncompliance with FMVSS No. 138 in the case of 2008 and 2009 2-door and 4-door Civic SI vehicles is inconsequential to motor vehicle safety. Accordingly, Honda's petition is granted and the petitioner is exempted from the obligation of providing notification of, and a remedy for, that noncompliance under 49 U.S.C. 30118 and 30120.

Authority: (49 U.S.C. 30118, 30120: Delegations of authority at CFR 1.50 and 501.8).

Issued on: July 17, 2012.
Claude H. Harris,
Director, Office of Vehicle Safety Compliance.

[FR Doc. 2012-17892 Filed 7-20-12; 8:45 am]

BILLING CODE 4910-59-P